DEPARTMENT OF EDUCATION

National Assessment Governing Board Quarterly Board Meeting

AGENCY: National Assessment Governing Board, U.S. Department of Education.

ACTION: Notice of a closed teleconference meeting of the National Assessment Governing Board.

DATES: April 15, 2015.

SUMMARY: The National Assessment Governing Board is announcing a teleconference scheduled on April 15, 2015 from 3:00 p.m. to 3:30 p.m. EST to discuss proposed candidates for the vacant position of National Assessment Governing Board Executive Director. Following discussions, the full Board will take action on selection of the final candidate for the position of Executive Director. This notice is being published less than the 15-days due to the urgent need to ensure full Board participation in the selection of a new Executive Director for NAGB.

SUPPLEMENTARY INFORMATION: Notice of this meeting is required under Section 10(a)(1)(2) of the Federal Advisory Committee Act (FACA).

The teleconference will be closed to the public because it is concerned with recommending applicants for a vacancy. Discussions will require full and frank advice from Governing Board members. This advice will involve professional judgments on the relative merits and qualifications of the proposed candidate and respective work experience. Such personnel matters involve the discussion of information that is of a personal nature, the disclosure of which would be a clearly unwarranted invasion of personal privacy and, therefore, is protected from disclosure by exemptions 2 and 6 of § 552b(c) of Title 5 of the United States Code.

Minutes of the closed teleconference will be certified by the Board Chairman and retained in the public record.

FOR FURTHER INFORMATION CONTACT: Munira Mwalimu, Executive Officer, 800 North Capitol Street NW., Suite 825, Washington, DC 20002, telephone: (202) 357-6938, fax: (202) 357-6945.

SUPPLEMENTARY INFORMATION: Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: selecting subject areas to be assessed, developing assessment frameworks and specifications, developing appropriate student achievement levels for each grade and subject tested, developing standards and procedures for interstate and national comparisons, improving the form and use of NAEP, developing guidelines for reporting and disseminating results, and releasing initial NAEP results to the public. Section 302 (6) of P.L. 107-279 provides the legislative authority for appointment of Governing Board staff.

Access to Records of the Meeting: Pursuant to FACA requirements, the public may inspect the outcomes of Board action via an announcement of the appointment that will be posted at www.nagb.gov approximately two weeks after the teleconference meeting.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress § 301 and § 302.

Dated: April 10, 2015.
Mary Crovo,
Deputy Executive Director, National Assessment Governing Board (NAGB), U.S. Department of Education.

[FR Doc. 2015-08658 Filed 4-14-15; 8:45 am]

BILLING CODE 4000-01-P